DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Association of American Railroads

(Waiver Petition Docket Number FRA-2008-0015)

The Association of American Railroads (AAR), on behalf of its member railroads, seeks a waiver of compliance with the Locomotive Safety Standards, 49 CFR Parts 229.27(a)(2) and 229.29(a), as they pertain to the requirements to clean, repair and test airbrake equipment associated with locomotive remote control systems manufactured by Cattron-Theimeg Inc. (Accuspeed, Beltpack, and Cantrac brands); Control Chief Corporation (MU & Go, Train Chief II, and Plug & Go brands); and General Electric Company (Locotrol brand). AAR requests to change the time interval requirements for the additional air brake equipment to align with the requirements for the other brake equipment on each locomotive, set by waiver for locomotives equipped with 26L air brakes at 1,104 days if not equipped with an air dryer (Docket No. H-80-7) or 1,472 days if equipped with an air dryer (Docket No. FRA-2005-21325) and at 5 years or longer for locomotives equipped with electronic air brakes (Docket Nos. FRA-2000-7367, FRA-2002-13397, FRA-1999-6252 and FRA-2005-21613).

In support of its application, AAR states that a precedent has been established by waiver Docket Number FRA-2006-24224, which granted relief to the Canadian National Railway (CN), extending the clean, repair and test interval to 1,472 days for remote control brake valves in the Cattron-Theimeg Beltpack brand systems. AAR contends that there is no reason that one railroad be permitted longer inspection intervals than other railroads and that there is also no justification for giving one remote control system longer inspection intervals than other systems.

AAR recognizes that the CN waiver retains the requirement for cleaning air brake filtering devices every 368 days and agrees to this restriction. As attachments to the waiver petition, AAR also submitted letters from Cattron-Theimeg recommending a 5-year inspection interval for their three remote control locomotive (RCL) systems, a letter from Control Chief recommending a 48-month service interval for all of their RCL air brake components, and a page from the General Electric Locotrol Maintenance manual recommending a 5-year interval.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2008-0015) and may be submitted by any of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC 20590, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on April 9, 2008.
Grady C. Cothen, Jr.,
Deputy Associate Administrator for Safety Standards and Program Development.

[FR Doc. E8-8103 Filed 4-15-08; 8:45 am]

BILLING CODE 4910-06-P